IMMIGRATION AND NATURALIZATION SERVICE

Agency Information Collection Activities: Extension of existing Collection; Comment Request

ACTION: 30-day notice of information collection under review; Application by refugee for Waiver of Ground of Excludability; Form I-602.

The Office of Management and Budget (OMB) approval is being sought for the information collected listed below. This proposed information collection was previously published in the Federal Register on March 1, 2002 at 67 FR 4970, allowing for a 60-day public comment period. No comments were received by the Immigration and Naturalization Service.

The purpose of this notice is to allow an additional 30 days for public comments. Comments are encouraged and will be accepted until June 3, 2002. This process is conducted in accordance with 5 CFR part 1320.10.

Written comments and/or suggestions regarding the item(s) contained in this notice, especially regarding the estimated public burden and associated response time, should be directed to the Office of Management and budget, Office of Information and Regulatory Affairs, Attention: Department of Justice Desk Officer, Washington, DC 20503. Comments may also be submitted to the Department of Justice (DOJ), Justice Management Division, Information Management and Security Staff, Attention: Department Clearance Officer, Patrick Henry Building, 601 D Street, NW., Suite 1600,. Washington, DC 20530. Comment may also be submitted to DOJ via facsimile to 202-514-1534.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of currently approved information collection.

(2) Title of the Form/Collection: Application by Refugee for Waiver of Ground of Excludability.

(3) Agency form number, if any, and the applicable component of the Department of Justice sponsoring the collection: Form I-602. Office of International Affairs, Immigration and Naturalization Service.

(4) Affected public who will be asked or required to respond, as well as a brief abstract: Primary: Individuals or Households. This form is used by the INS to determine eligibility for waiver.

(5) An estimate of the total number of respondents and the amount of time estimated for an average respondent to respond: 25,000 responses at 15 minutes (.25) per response.

(6) An estimate of the total public burden (in hours) associated with the collection: 625 annual burden hours.

If you have additional comments, suggestions, or need a copy of the proposed information collection instrument with instructions, or additional information, please contact Mr. Richard A. Sloan, 202-514-3291, Director, Regulations and Forms Service Division, Immigration and Naturalization Service, U.S. Department of Justice, Room 4034, 425 I Street, NW., Washington, DC 20536.

If additional information is required contact: Mr. Robert B. Briggs, Clearance Officer, United States Department of Justice, Information Management and Security Staff, Justice Management Division, Patrick Henry Building, 601 D Street, NW., Suite 1600, Washington, DC 20530.

Dated: April 25, 2002.
Richard A. Sloan,
Department Clearance Officer, United States Department of Justice, Immigration and Naturalization Service.

[FR Doc. 02-10798 Filed 5-1-02; 8:45 am]

BILLING CODE 4410-10-M